DEPARTMENT OF THE INTERIOR

Bureau of Land Management

[BLM_HQ_FRN_MO4500177674]

Land Acquisition Nomination and Ranking Process for Funds Made Available Through the Federal Land Transaction Facilitation Act Reauthorization of 2018

AGENCY: Bureau of Land Management, Interior.

ACTION: Notice of nomination and ranking process.

SUMMARY: The Federal Land Transaction Facilitation Act and the Federal Land Transaction Facilitation Act Reauthorization of 2018 (FLTFA) require the Secretary of the Interior and the Secretary of Agriculture to provide public notice of new procedures to identify, by State, inholdings of land or interests therein for which the landowner has indicated a desire to sell to the United States and to prioritize the acquisition of inholdings in accordance with the FLTFA. The FLTFA land acquisition program is managed through an Interagency Implementation Agreement among the Bureau of Land Management (BLM), U.S. Fish and Wildlife Service (FWS), U.S. Forest Service (USFS), and National Park Service (NPS) (collectively referred to as the Agencies).

DATES: The processes identified in this notice will take effect immediately upon publication of this notice. They will remain in effect until changed by the Agencies and announced through a notice published in the Federal Register.

FOR FURTHER INFORMATION CONTACT: Erica Pionke, BLM Headquarters Office, (202) 570-2624 or by email at epionke@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The FLTFA was reauthorized on March 23, 2018, under title III of Public Law 115-141 (43 U.S.C. 2301 through 2306). The FLTFA allows the Agencies to use proceeds from the sale or exchange of public land to purchase lands or interests therein in Alaska and the 11 contiguous Western States of Arizona, California, Colorado, Idaho, Montana, Nevada, New Mexico, Oregon, Utah, Washington, and Wyoming. The FLTFA requires public notification of the procedures used to identify, by State, inholdings of land or interests therein for which the landowner has indicated a desire to sell to the United States and to prioritize the acquisition of inholdings. The FLTFA does not require the Agencies to acquire any land or interest in land that has been nominated by a willing landowner.

Definitions in the FLTFA Which Are Used in This Notice

(a) Exceptional resource means a resource of scientific, natural, historic, cultural, recreational access and use, or other recreational value that has been documented by a Federal, State, or local governmental authority, and for which there is a compelling need for conservation and protection under the jurisdiction of a Federal agency in order to maintain the resource for the benefit of the public.

(b) Federally designated area means land in Alaska and the 11 contiguous Western States of Arizona, California, Colorado, Idaho, Montana, Nevada, New Mexico, Oregon, Utah, Washington, and Wyoming that is within the boundary of:

(1) A national monument, area of critical environmental concern, national conservation area, national riparian conservation area, national scenic area, research natural area, national outstanding natural area, priority species and habitats designated in a land use plan in accordance with subpart E (entitled “Fish and Wildlife”) of part I of appendix C of BLM Land Use Planning Handbook H-1601-1 (Rel 1-1693), a special recreation management area, or a national natural landmark managed by the BLM;

(2) A unit of the National Park System;

(3) A unit of the National Wildlife Refuge System;

(4) A National Forest or National Grassland in the National Forest System; or

(5) An area within which the Secretary of the Interior or the Secretary of Agriculture is otherwise authorized by law to acquire lands or interests therein that is designated as:

(i) Wilderness under the Wilderness Act (16 U.S.C. 1131 et seq.);

(ii) A wilderness study area;

(iii) A component of the Wild and Scenic Rivers System under the Wild and Scenic Rivers Act (16 U.S.C. 1271 et seq.); or

(iv) A component of the National Trails System under the National Trails System Act (16 U.S.C. 1241 et seq.).

(c) Inaccessible lands that are open to public hunting, fishing, recreational shooting, or other recreational purposes means public lands (as defined in section 103 of the Federal Land Policy and Management Act of 1976 (43 U.S.C. 1702)) in Alaska and the 11 contiguous Western States consisting of at least 640 contiguous acres on which the public is allowed under Federal or State law to hunt, fish, target shoot or use the land for other recreational purposes, but:

(1) To which there is no public access or egress; or

(2) To which public access or egress to the land is significantly restricted, as determined by the Secretary of the Interior.

(d) Inholding means any right, title, or interest, held by a non-Federal entity, in or to a tract of land that lies within the boundary of a federally designated area.

(e) Public land means public lands as defined in section 103 of the Federal Land Policy and Management Act of 1976 (43 U.S.C. 1702).

Nomination of Land or Interest on Land for Acquisition by the Agencies

Effective upon publication of this notice, at any time, a landowner or their authorized representative may nominate their land for acquisition by the Agencies if their land meets the following criteria:

(a) The landowner must be a citizen of the United States or an entity that is lawfully authorized to conduct business in the relevant State and who voluntarily indicated a desire to sell land or interest in land to the United States;

(b) The nominated parcel must be located in Alaska or any of the 11 contiguous Western States of Arizona, California, Colorado, Idaho, Montana, Nevada, New Mexico, Oregon, Utah, Washington, and Wyoming; and

(c) The nominated parcel must either:

(1) Meet the criteria to be identified as an inholding, which is located within a federally designated area;

(2) Be located adjacent to a federally designated area and contain exceptional resources; or

(3) Be adjacent to inaccessible lands open to public hunting, fishing, recreational shooting, or other recreational purposes.

Nominations may be presented to a local BLM Field Office; FWS Refuge Office; USFS Supervisor's Office; or NPS Park Office having jurisdiction over the federally designated area in proximity to the nominated parcel. The acquisition of land or interest in land nominated by a landowner is a discretionary action by the Agencies and not required by the FLTFA.

Procedures Used To Prioritize Land or Interest in Land Nominated for Acquisition by the Agencies

Nominations to sell land or interest in land to the United States is subject to available funding and will be prioritized and reviewed by the following groups:

(a) Regional Interagency FLTFA Team (Regional Team) consisting of at least one member from each of the Agencies having jurisdiction over the nominated parcel. Each State listed in this notice shall have a Regional Team;

(b) State and regional leadership consisting of the BLM State Director; Regional Directors of the FWS and NPS; and Regional Forester for the USFS;

(c) A National Interagency FLTFA Team consisting of one or more representatives from each of the Agencies (FLTFA Team); and an Executive Committee consisting of the BLM Director; the FWS Director; the FS Chief; and the NPS Director, or their designated representative.

Funds made available under the FLTFA shall be supplemental to any funds appropriated under the Land and Water Conservation Fund (LWCF) Act (16 U.S.C. 4601-4 et seq.).

Upon receipt from its local office of a nomination to sell land or interest in land to the United States, the nominating Agency will make a discretionary determination if the parcel fits within the priorities of the Agency; if the parcel provides a benefit to the federally designated area; and other criteria as determined by the Agency. If the Agency determines to move forward with the acquisition, it will submit a request for funding to the Regional Team having jurisdiction over the nominated parcel. The Regional Team will first determine if there are sufficient funds available within the State having jurisdiction over the nominated parcel to complete the acquisition. Contributions from the LWCF will be identified by the submitting Agency at the time of submission. If sufficient funds are available, the Regional Team will review and rank the nomination based on the public benefits of a potential acquisition and availability of funds. The Regional Team will then forward the proposal to the State and Regional Leadership for review and concurrence of the recommendation. Nominations approved by the State and Regional Leadership will then be forwarded to the FLTFA Team, whose duties are to consolidate nominations from multiple regions and develop a ranking recommendation to present to the Executive Committee for final funding approval. The proposed acquisition may be re-submitted in the future if sufficient funds are not available within the State having jurisdiction over the nominated parcel to complete the acquisition. There is no process for appeal if a nominated parcel is not selected or approved for funding.

(Authority: 43 U.S.C. 2301 through 2306)

Lonny R. Bagley,
Acting Assistant Director, Energy, Minerals and Realty Management, Bureau of Land Management.

[FR Doc. 2024-11595 Filed 5-24-24; 8:45 am]

BILLING CODE 4331-29-P